DEPARTMENT OF JUSTICE

Drug Enforcement Administration

Manufacturer of Controlled Substances; Notice of Registration; Boehringer Ingelheim Chemicals, Inc.; Correction

In Federal Register (FR DOC) 2013-25096 on page 64019, in the issue of Friday, October 25, 2013, make the following corrections:

On page 64019, in the first column, in the table, the first cell inadvertently omitted basic class of controlled substance Amphetamine (1100), and the second column, in the table, the last cells should read “II”.

Dated: December 16, 2013.
Joseph T. Rannazzisi,
Deputy Assistant Administrator, Office of Diversion Control, Drug Enforcement Administration.

[FR Doc. 2013-31362 Filed 12-31-13; 8:45 am]

BILLING CODE 4410-09-P